DEPARTMENT OF THE INTERIOR

National Park Service

Notice of Inventory Completion: University of Alaska Museum, Fairbanks, AK

AGENCY: National Park Service, Interior.

ACTION: Notice.

Notice is here given in accordance with the Native American Graves Protection and Repatriation Act (NAGPRA), 25 U.S.C. 3003, of the completion of an inventory of human remains and associated funerary object in the possession of the University of Alaska Museum, Fairbanks, AK. The human remains and associated funerary object were removed from the base of College Hill in Fairbanks, AK, and the vicinity of Nenana, AK.

This notice is published as part of the National Park Service's administrative responsibilities under NAGPRA, 25 U.S.C. 3003 (d)(3). The determinations in this notice are the sole responsibility of the museum, institution, or Federal agency that has control of the Native American human remains and associated funerary object. The National Park Service is not responsible for the determinations in this notice.

A detailed assessment of the human remains was made by the University of Alaska Museum professional staff in consultation with representatives of the Nenana Native Association.

In the 1920s, human remains representing a minimum of one individual were removed from the base of College Hill in Fairbanks, AK, by the McCombe brothers during the excavation for the foundation of a cabin. No known individual was identified. The one associated funerary object is a dentalium bead.

In 1939, human remains representing a minimum of two individuals were removed from an unspecified location in the vicinity of Nenana, AK, by Dr. Froelich Rainey. No known individuals were identified. No associated funerary objects are present.

In 1954, human remains representing a minimum of one individual were removed from an unspecified location in the vicinity of Nenana, AK, by the U.S. Marshall's office in Fairbanks, AK. No known individuals were identified. No associated funerary objects are present.

Based on skeletal morphology, geographic location, and associated artifacts, the four individuals have been identified as Native American, affiliated with Athabascan culture. Although the age of the human remains is unknown, officials of the University of Alaska Museum have determined that the human remains and associated funerary objects date to the time period of the Athabascan occupation of the Nenana and Fairbanks area. The determination of cultural affiliation with the Nenana Native Association has been based upon oral tradition and the continuity of Athabascan culture in the Nenana and Fairbanks area. Present-day descendants of Athabascans in the Nenana and Fairbanks area are members of the Nenana Native Association.

Officials of the University of Alaska Museum have determined that, pursuant to 25 U.S.C. 3001 (9-10), the human remains described above represent the physical remains of four individuals of Native American ancestry. Officials of the University of Alaska Museum also have determined that, pursuant to 25 U.S.C. 3001 (3)(A), the one object described above is reasonably believed to have been placed with or near individual human remains at the time of death or later as part of the death rite or ceremony. Lastly, officials of the University of Alaska Museum have determined that, pursuant to 25 U.S.C. 3001 (2), there is a relationship of shared group identity that can be reasonably traced between the Native American human remains and associated funerary object and the Nenana Native Association.

Representatives of any other Indian tribe that believes itself to be culturally affiliated with the human remains and associated funerary object should contact James Whitney, Archaeology Collections Manager, University of Alaska Museum, 907 Yukon Dr., Fairbanks, AK 99775-6960, telephone (907) 474-6943, before January 9, 2006. Repatriation of the human remains and associated funerary object to the Nenana Native Association may proceed after that date if no additional claimants come forward.

The University of Alaska Museum is responsible for notifying Doyon, Ltd., Nenana Native Association, and Toghotthele Corporation that this notice has been published.

Dated: November 10, 2005.
Sherry Hutt,
Manager, National NAGPRA Program.

[FR Doc. 05-23867 Filed 12-8-05; 8:45 am]

BILLING CODE 4312-50-S